DEPARTMENT OF DEFENSE

Department of the Army, Corps of Engineers

Notice of Availability of Draft Programmatic Environmental Impact Statement for the Nationwide Permit Program

AGENCY: Army Corps of Engineers, DoD.

ACTION: Notice of availability.

SUMMARY: In the March 22, 1999, issue of the Federal Register (64 FR 13782) the Corps of Engineers (Corps) announced that it would prepare a programmatic environmental impact statement (PEIS) for the Corps Nationwide Permit (NWP) program. The overall purpose of the PEIS is to review and evaluate the NWP program as a whole to ensure that the NWP program authorizes only activities with minimal individual and cumulative adverse effects on the aquatic environment. The draft PEIS was prepared by the Corps' Institute for Water Resources (IWR).

DATES: Comments on the draft PEIS must be received by September 14, 2001.

ADDRESSES: Mail comments to the U.S. Army Corps of Engineers, Institute for Water Resources, CEIWR-PD, 7701 Telegraph Road, Casey Building, Alexandria, Virginia 22315-3868. Submit electronic comments to NWPPEIS@usace.army.mil. See

SUPPLEMENTARY INFORMATION: For file formats and other information about filing electronic comments.

FOR FURTHER INFORMATION CONTACT: Mr. Robert Brumbaugh, CEIWR-PD, at 703-428-6370 or access the Institute for Water Resources Home Page at http://www.iwr.usace.army.mil/iwr/Regulatory/regulintro.htm

SUPPLEMENTARY INFORMATION: The draft PEIS can be downloaded from the Institute for Water Resources Home Page at http://www.iwr.usace.army.mil/iwr/Regulatory/regulintro.htm For those interested parties that cannot download documents from the Internet, a limited number of copies of the draft PEIS can be obtained by contacting the Institute for Water Resources at the address or telephone number above.

You may submit comments by sending electronic mail (e-mail) to: NWPPEIS@usace.army.mil

Submit electronic comments as a text file and avoid the use of any special characters and any form of encryption. Comments sent as attachments to electronic mail messages must be in text format to ensure that those attachments can be read by IWR. Comments sent electronically as attachments in word processing program formats will not be accepted.

Dated: 23 July 2001.
Lawrence A. Lang,
Deputy, Operations Division, Directorate of Civil Works.

[FR Doc. 01-18939 Filed 7-30-01; 8:45 am]

BILLING CODE 3710-92-P